DEPARTMENT OF COMMERCE

International Trade Administration

Pacific Northwest National Laboratory, et al.: Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Avenue NW., Washington, DC.

Docket Number: 13-016. Applicant: Pacific Northwest National Laboratory, Richland, WA 99352. Instrument: Electron Microscope. Manufacturer: JEOL Ltd., Japan. Intended Use: See notice at 78 FR 34990, June 11, 2013.

Docket Number: 13-018. Applicant: The Scripps Institute, La Jolla, CA 92037. Instrument: Electron Microscope. Manufacturer: FEI Company, Czech Republic. Intended Use: See notice at 78 FR 34990, June 11, 2013.

Docket Number: 13-021. Applicant: University of Massachusetts Amherst, Amherst, MA 01003. Instrument: Electron Microscope. Manufacturer: JEOL Ltd, Japan. Intended Use: See notice at 78 FR 37206-07, June 20, 2013.

Docket Number: 13-022. Applicant: University of Utah, Salt Lake City, UT 84132. Instrument: Electron Microscope. Manufacturer: JEOL Ltd., Japan. Intended Use: See notice at 78 FR 34990-91, June 11, 2013.

Docket Number: 13-024. Applicant: University of Pennsylvania, Biomedical Research Building, Philadelphia, PA 19104. Instrument: Electron Microscope. Manufacturer: FEI Company, Czech Republic. Intended Use: See notice at 78 FR 34990-91, June 11, 2013.

Comments: None received. Decision: Approved. No instrument of equivalent scientific value to the foreign instrument, for such purposes as this instrument is intended to be used, is being manufactured in the United States at the time the instrument was ordered. Reasons: Each foreign instrument is an electron microscope and is intended for research or scientific educational uses requiring an electron microscope. We know of no electron microscope, or any other instrument suited to these purposes, which was being manufactured in the United States at the time of order of each instrument.

Dated: August 27, 2013.
Richard Herring,
Acting Director, Subsidies Enforcement Office, Import Administration.

[FR Doc. 2013-21641 Filed 9-4-13; 8:45 am]

BILLING CODE 3510-DS-P